DEPARTMENT OF THE INTERIOR

National Park Service

[NPS-WASO-NAGPRA-10458; 2200-1100-665]

Notice of Inventory Completion: Bishop Museum, Honolulu, HI

AGENCY: National Park Service, Interior.

ACTION: Notice.

SUMMARY: The Bishop Museum has completed an inventory of human remains in consultation with the appropriate Native Hawaiian Organizations, and has determined that there is a cultural affiliation between the human remains and present-day Native Hawaiian Organizations. Representatives of any Native Hawaiian Organization that believes itself to be culturally affiliated with the human remains may contact the Bishop Museum. Repatriation of the human remains to the NHOs stated below may occur if no additional claimants come forward.

DATES: Representatives of any Native Hawaiian Organization that believes it has a cultural affiliation with the human remains should contact the Bishop Museum at the address below by August 2, 2012.

ADDRESSES: Noa Dettweiler, General Counsel, Bishop Museum, Honolulu, HI 96817, telephone (808) 847-8216.

SUPPLEMENTARY INFORMATION: Notice is here given in accordance with the Native American Graves Protection and Repatriation Act (NAGPRA), 25 U.S.C. 3003, of the completion of an inventory of human remains in the possession of the Bishop Museum. The human remains were removed from an unknown location in Hawaii.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Bishop Museum professional staff in consultation with representatives of the donor and the Hawaii State Department of Land and Natural Resources.

History and Description of the Remains

Prior to 1920, human remains representing, at minimum, one individual were removed from an unknown location in Hawaii by unknown individuals. The Bishop Museum received the remains unsolicited via the U.S. Postal Service. The sender noted that they believed the skull to be that of a 19th century Hawaiian, discovered in a cave by two teen-aged boys and given to Dr. J. Gilbert McAllister in the 1920s. No information is available on which island the cave was located. Dr. McAllister was an archaeologist doing research at Bishop Museum during that time period, but it is unknown how the skull left his possession. The skull is missing the lower jaw bone. No known individuals were identified. No associated funerary objects are present.

Determinations Made by the Bishop Museum

Officials of the Bishop Museum have determined that:

• Pursuant to 25 U.S.C. 3001(9), the human remains described in this notice represent the physical remains of one individual of Native Hawaiian ancestry.

• Pursuant to 25 U.S.C. 3001(2), there is a relationship of shared group identity that can be reasonably traced between the Native Hawaiian human remains and Hui Malama I Na Kupuna O Hawaii Nei and the Office of Hawaiian Affairs.

Additional Requestors and Disposition

Representatives of any Native Hawaiian Organization that believes itself to be culturally affiliated with the human remains should contact Noa Dettweiler, General Counsel, Bishop Museum, 1525 Bernice Street, Honolulu, HI 96817, telephone (808) 847-8216, before August 2, 2012. Repatriation of the human remains to Hui Malama I Na Kupuna O Hawaii Nei and the Office of Hawaiian Affairs may proceed after that date if no additional claimants come forward.

The Bishop Museum is responsible for notifying Hui Malama I Na Kupuna O Hawaii Nei and the Office of Hawaiian Affairs that this notice has been published.

Dated: May 31, 2012.
Sherry Hutt,
Manager, National NAGPRA Program.

[FR Doc. 2012-16209 Filed 7-2-12; 8:45 am]

BILLING CODE 4312-50-P